DEPARTMENT OF DEFENSE

Department of Navy

Notice of Intent To Grant Exclusive License; SurTec International, GmbH

AGENCY: Department of the Navy, DOD.

ACTION: Notice.

SUMMARY: The Department of the Navy gives notice of its intent to grant to SurTec International, GmbH, of 9 Skyline Drive, West Orange, NJ 07052, a revocable, nonassignable, exclusive license to practice in Japan, China, and all member countries of the European Patent Convention, the Government-Owned inventions, as identified in U.S. Patent Number 6,375,726 entitled “Corrosion Resistant Coatings for Aluminum and Aluminum Alloys”, Navy Case No. 82512, Inventors Matzdorf et al., Issue Date 23 April 2002, Patent Cooperation Treaty (PCT) filing.//U.S. Patent Number 6,511,532 entitled “Post Treatment for Anodized Aluminum”, Navy Case No. 83248, Inventors Matzdorf et al., Issue Date 28 January 2003, PCT filling.//U.S. Patent Number 6,527,841 entitled “Post Treatment for Metal Coated Substrates”, Navy Case No.83075, Inventors Matzdorf et al., Issue Date 4 March 2003, PCT filing, in the field of corrosion prevention.

DATES: Anyone wishing to object to the granting of this license must file written objections along with supporting evidence, if any, not later than fifteen (15) days after the date of publication in the Federal Register.

ADDRESSES: Written objections are to be filed with Naval Air Warfare Center Aircraft Division, Business Development Office, Office of Research and Technology Applications, Building 304, Room 107, 22541 Millstone Rd, Patuxent River, MD 20670.

FOR FUTHER INFORMATION CONTACT: Mr. Paul Fritz, Naval Air Warfare Center Aircraft Division, Business Development Office, Office of Research and Technology Applications, Building 304, Room 107, 22541 Millstone Rd, Patuxent River, MD 20670, telephone (301) 342-5586, fax (301) 342-1134, E-mail: paul.fritz@navy.mil.

(Authority: 35 U.S.C. 207, 37 CFR Part 404.)
Dated: June 30, 2004.
S.K. Melancon,
Paralegal Specialist, Office of the Judge Advocate General, Alternate Federal Register Liaison Officer.

[FR Doc. 04-15389 Filed 7-6-04; 8:45 am]

BILLING CODE 3810-FF-P